DEPARTMENT OF ENERGY

Federal Energy Regulatory Commission

Combined Notice of Filings #1

February 18, 2010.

Take notice that the Commission received the following electric corporate filings:

Docket Numbers: EC10-47-000.

Applicants: Ashtabula Wind II, LLC.

Description: Ashtabula Wind II, LLC et al. requests authorization for the indirect upstream disposition of their jurisdictional facilities.

Filed Date: 02/12/2010.

Accession Number: 20100217-0207.

Comment Date: 5 p.m. Eastern Time on Friday, March 05, 2010.

Take notice that the Commission received the following electric rate filings:

Docket Numbers: ER97-2801-028; ER07-1236-004; ER99-2156-020; ER96-719-027.

Applicants: PacifiCorp; Yuma Cogeneration Associates; Cordova Energy Company LLC; MidAmerican Energy Company.

Description: PacifiCorp et al submits several changes in status with regard to the characteristics that they previously relied upon et al.

Filed Date: 02/01/2010.

Accession Number: 20100212-0035.

Comment Date: 5 p.m. Eastern Time on Monday, February 22, 2010.

Docket Numbers: ER99-1610-036.

Applicants: Southwestern Public Service Company.

Description: Southwestern Public Service Company submits supplement to the Triennial Market Power Analysis filed on 7/31/09.

Filed Date: 02/17/2010.

Accession Number: 20100218-0053.

Comment Date: 5 p.m. Eastern Time on Wednesday, March 10, 2010.

Docket Numbers: ER06-226-001; ER00-2603-006; ER03-717-004; ER06-1291-003; ER07-1040-003; ER07-565-002; ER07-566-002; ER08-200-003; ER94-142-030; ER98-3774-007.

Applicants: Syracuse Energy Corporation; Hot Spring Power Company, LLC; Mt. Tom Generating Company; Choctaw Gas Generation, LLC; Hopewell Cogeneration Ltd Partnership; FirstLight Hydro Generating Company; FirstLight Power Resources Management, LLC; Waterbury Generation, LLC; SUEZ Energy Marketing NA, Inc.; Choctaw Generation Limited Partnership.

Description: Notice of Non-Material Change in Status of Choctaw Gas Generation, LLC, et al.

Filed Date: 02/18/2010.

Accession Number: 20100212-5237.

Comment Date: 5 p.m. Eastern Time on Thursday, March 11, 2010.

Docket Numbers: ER10-426-003.

Applicants: Stetson Wind II, LLC.

Description: Stetson Wind II, LLC request FERC to consider the incorrect references to be references to Stetson Wind II, in addition Stetson submits a replacement page of its proposed tariff.

Filed Date: 02/12/2010.

Accession Number: 20100216-0215.

Comment Date: 5 p.m. Eastern Time on Friday, March 05, 2010.

Docket Numbers: ER10-706-001.

Applicants: Midwest Independent Transmission System.

Description: Midwest Independent Transmission System Operator, Inc submits an amendment to its Feb. 1st Filing, as well as the corrected Amended and Restated Large Generator Interconnection Agreement etc.

Filed Date: 02/12/2010.

Accession Number: 20100217-0209.

Comment Date: 5 p.m. Eastern Time on Friday, March 05, 2010.

Docket Numbers: ER10-729-000.

Applicants: Viridian Energy MD LLC.

Description: Viridian Energy NJ LLC submits the Petition for Acceptance of Initial Tariff, Waivers and Blanket Authority.

Filed Date: 02/17/2010.

Accession Number: 20100218-0206.

Comment Date: 5 p.m. Eastern Time on Wednesday, March 10, 2010.

Docket Numbers: ER10-745-001.

Applicants: PacifiCorp.

Description: PacifiCorp submits Substitute First Revised Sheet 318F et al. to FERC Electric Tariff, 7R11.

Filed Date: 02/17/2010.

Accession Number: 20100217-0236.

Comment Date: 5 p.m. Eastern Time on Wednesday, March 10, 2010.

Docket Numbers: ER10-757-000.

Applicants: PacifiCorp.

Description: PacifiCorp submits Notice of Cancellation of Service Agreement 228 under PacifiCorp's Seventh Revised Volume 11 Open Access Transmission Tariff.

Filed Date: 02/16/2010.

Accession Number: 20100217-0211.

Comment Date: 5 p.m. Eastern Time on Tuesday, March 09, 2010.

Docket Numbers: ER10-758-000.

Applicants: PacifiCorp.

Description: PacifiCorp submits revised sheets to its Open Access Transmission Tariff reflecting updated Load Ratio Share figures to be effective 7/31/10 and an updated Oregon District Access Monthly Demand Charge.

Filed Date: 02/16/2010.

Accession Number: 20100217-0212.

Comment Date: 5 p.m. Eastern Time on Tuesday, March 09, 2010.

Docket Numbers: ER10-759-000.

Applicants: PacifiCorp.

Description: PacifiCorp submits filing seeking Commission approval to revise certain sections of its Open Access Transmission Tariff related to PacifiCorp's Load Ration Share calculation.

Filed Date: 02/16/2010.

Accession Number: 20100217-0213.

Comment Date: 5 p.m. Eastern Time on Tuesday, March 09, 2010.

Docket Numbers: ER10-760-000.

Applicants: Southwest Power Pool, Inc.

Description: Southwest Power Pool, Inc submits notice of cancellation of the Point-to-Point Transmission Service Agreement between SPP as Transmission Provider and Southwestern Public Service Company et al. as Transmission Customer.

Filed Date: 02/16/2010.

Accession Number: 20100217-0214.

Comment Date: 5 p.m. Eastern Time on Tuesday, March 09, 2010.

Docket Numbers: ER10-766-000.

Applicants: Southern Companies.

Description: Southern Companies submits the Network Integrated Transmission Service Agreement.

Filed Date: 02/17/2010.

Accession Number: 20100217-0234.

Comment Date: 5 p.m. Eastern Time on Wednesday, March 10, 2010.

Docket Numbers: ER10-767-000.

Applicants: WSPP Inc.

Description: WSPP Inc submits revised pages to Schedule Q of the WSPP Agreement to modify the cost-based rates.

Filed Date: 02/17/2010.

Accession Number: 20100217-0232.

Comment Date: 5 p.m. Eastern Time on Wednesday, March 10, 2010.

Docket Numbers: ER10-768-000.

Applicants: Southern California Edison Company.

Description: Southern California Edison Co submits revised sheets for the Small Generator Interconnection Agreement.

Filed Date: 02/17/2010.

Accession Number: 20100217-0233.

Comment Date: 5 p.m. Eastern Time on Wednesday, March 10, 2010.

Docket Numbers: ER10-769-000.

Applicants: Glenwood Energy Partners, Ltd.

Description: Glenwood Energy Partners, Ltd submits petition for acceptance of initial rate schedule, waivers and blanket authority for FERC No 1.

Filed Date: 02/16/2010.

Accession Number: 20100216-0598.

Comment Date: 5 p.m. Eastern Time on Tuesday, March 09, 2010.

Docket Numbers: ER10-771-000.

Applicants: Midwest Independent Transmission System.

Description: Midwest Independent Transmission System Operator, Inc submits a Facilities Construction Agreement among Settlers Trail Wind Farm, LLC et al. a corporation organized and existing under the laws of State of Indiana et al. etc.

Filed Date: 02/16/2010.

Accession Number: 20100218-0208.

Comment Date: 5 p.m. Eastern Time on Tuesday, March 09, 2010.

Take notice that the Commission received the following open access transmission tariff filings:

Docket Numbers: OA08-36-004.

Applicants: Cleco Power LLC.

Description: Revision to August 17, 2009 Attachment K Compliance Filing of Cleco Power LLC.

Filed Date: 02/12/2010.

Accession Number: 20100212-5236.

Comment Date: 5 p.m. Eastern Time on Friday, March 05, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-3795 Filed 2-24-10; 8:45 am]

BILLING CODE 6717-01-P